POSTAL REGULATORY COMMISSION

39 CFR Part 3050

[Docket No. RM2025-10; Order No. 8882]

Periodic Reporting

AGENCY: Postal Regulatory Commission.

ACTION: Notice of proposed rulemaking.

SUMMARY: The Commission is acknowledging a recent Postal Service filing requesting the Commission initiate a rulemaking proceeding to consider changes to analytical principles relating to periodic reports. This document informs the public of the filing, invites public comment, and takes other administrative steps.

DATES: Comments are due: July 1, 2025.

ADDRESSES: Submit comments electronically via the Commission's Filing Online system at https://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Proposal

III. Notice and Comment

IV. Ordering Paragraphs

I. Introduction

On May 30, 2025, the Postal Service filed a petition pursuant to 39 CFR 3050.11 requesting that the Commission initiate a rulemaking proceeding to consider changes to analytical principles relating to periodic reports.¹ The Petition identifies the proposed analytical changes filed in this docket as modifications to the Revenue, Pieces, and Weight (RPW) reporting methodology for measuring the national totals of non-contract mailpieces in domestic mail categories bearing PC Postage indicia from postage evidencing systems. Petition, Proposal at 1. In particular, the Postal Service plans to replace Origin-Destination Information System—Revenue, Pieces, and Weight (ODIS-RPW) statistical sampling estimates with corresponding census transactional data. Id.

¹ Petition of the United States Postal Service to Initiate a Proceeding to Change Analytical Principles and Notice of Filing Non-Public Materials, May 30, 2025 (Petition). The proposed change is attached to the Petition (Proposal).

II. Proposal

Background. Postage meters and PC Postage products are collectively identified as “postage evidencing systems,” which print information-based indicia (IBI) to indicate postage payment. Id. at 2. Mailers print indicia directly on a mailpiece or on a label that is affixed to a mailpiece. Id. PC Postage is third-party vendor software that mailers can use to pay for and print postage using a computer, printer, and internet connection. Id. PC Postage payment transactions are recorded in the National Meter Account Tracking System (NMATS). Id.

The Postal Service explains that the current RPW methodology for mail activity relies on several census sources in combination with statistical estimates. Id. The ODIS-RPW system is a probability-based destinating mail sampling system that supplies official estimates of revenue, volume, and weight for single-piece stamped and metered mail. Id. at 3. ODIS-RPW data collectors record a PC Postage mailpiece as IBI and indicate the specific PC Postage manufacturer. Id. Other mail characteristics recorded by Statistical Programs data collectors include, but are limited to, revenue, mail class, product, mail markings, and extra services. Id.

In describing the limitations with the current methodology, the Postal Service explains that “[u]nintended errors could occur in the sampling of mail, and in the recording of the data elements observed.” Id. In addition, the Postal Service states that the ODIS-RPW system produces point estimates with sampling error and does not have the capability to report or adjust for short-paid and overpaid mail. Id. at 3-4.

Proposal. The Postal Service proposes to switch reporting of PC Postage domestic mail categories from sample data provided by the ODIS-RPW sampling system to corresponding census data provided by PC Postage transactional data housed in NMATS. Id. at 4. The PC Postage data includes First-Class, Media Mail, Library Mail, USPS Ground Advantage, and Priority Mail. Id. The Postal Service proposes to replace the sampling estimates with NMATS transactional (census) data no earlier than Quarter 4 FY 2025 due to customers turning over to transactional level meters. Id. The Postal Service also would retrospectively revise Quarter 1, 2, and 3 of FY 2025, but not FY 2024 or prior. Id.

Impact. To measure the impact of the proposed change, the Postal Service produced RPW reports using census data and compared them to the original versions. Id. Through these comparison reports, the Postal Service identified revenue and volume changes across major mail categories. Id. at 5. Thus, the Postal Service states that the proposed change will improve reporting of PC Postage revenue and volume in terms of the level and measures of precision. Id. at 6. It also states that the new methodology will allow for more granularity in the underlying report data. Id. at 6-7.

III. Notice and Comment

The Commission establishes Docket No. RM2025-10 for consideration of matters raised by the Petition. More information on the Petition may be accessed via the Commission's website at https://www.prc.gov. Interested persons may submit comments on the Petition and the Proposal no later than July 1, 2025. Pursuant to 39 U.S.C. 505, Madison Lichtenstein is designated as an officer of the Commission (Public Representative) to represent the interests of the general public in this proceeding.

IV. Ordering Paragraphs

It is ordered:

1. The Commission establishes Docket No. RM2025-10 for consideration of the matters raised by the Petition of the United States Postal Service to Initiate a Proceeding to Change Analytical Principles and Notice of Filing Non-Public Materials, filed May 30, 2025.

2. Comments by interested persons in this proceeding are due no later than July 1, 2025.

3. Pursuant to 39 U.S.C. 505, the Commission appoints Madison Lichtenstein to serve as an officer of the Commission (Public Representative) to represent the interests of the general public in this docket.

4. The Secretary shall arrange for the publication of this order in the Federal Register.

By the Commission.
Erica A. Barker,
Secretary.

[FR Doc. 2025-10414 Filed 6-6-25; 8:45 am]

BILLING CODE 7710-FW-P